GENERAL SERVICES ADMINISTRATION

41 CFR Chs. 102, 300, 301, 302 and 303

48 CFR Ch. 5

Unified Agenda of Federal Regulatory and Deregulatory Actions

AGENCY: General Services Administration (GSA).

ACTION: Semiannual Regulatory Agenda.

SUMMARY: This agenda announces the proposed regulatory actions that GSA plans for the next 12 months and those that were completed since the spring 2013 edition. This agenda was developed under the guidelines of Executive Order 12866 “Regulatory Planning and Review.” GSA's purpose in publishing this agenda is to allow interested persons an opportunity to participate in the rulemaking process. GSA also invites interested persons to recommend existing significant regulations for review to determine whether they should be modified or eliminated. Proposed rules may be reviewed in their entirety at the Government's rulemaking Web site at http://www.regulations.gov.

Since the fall 2007 edition, the Internet has been the basic means for disseminating the Unified Agenda. The complete Unified Agenda will be available online at www.reginfo.gov, in a format that offers users a greatly enhanced ability to obtain information from the Agenda database.

Because publication in the Federal Register is mandated for the regulatory flexibility agendas required by the Regulatory Flexibility Act (5 U.S.C. 602), GSA's printed agenda entries include only:

(1) Rules that are in the Agency's regulatory flexibility agenda, in accordance with the Regulatory Flexibility Act, because they are likely to have a significant economic impact on a substantial number of small entities; and

(2) Any rules that the Agency has identified for periodic review under section 610 of the Regulatory Flexibility Act.

Printing of these entries is limited to fields that contain information required by the Regulatory Flexibility Act's Agenda requirements. Additional information on these entries is available in the Unified Agenda published on the Internet. In addition, for fall editions of the Agenda, the entire Regulatory Plan will continue to be printed in the Federal Register, as in past years, including GSA's regulatory plan.

FOR FURTHER INFORMATION CONTACT: Hada Flowers, Division Director, Regulatory Secretariat Division at 202-501-4755.

Dated: August 27, 2013.
Laura Auletta,
Acting Senior Procurement Executive.

General Services Administration—Final Rule Stage
Sequence No. | Title | Regulation Identifier No.
394 | General Services Administration Acquisition Regulation (GSAR); GSAR Case 2012-G501; Electronic Contracting Initiative | 3090-AJ36

GENERAL SERVICES ADMINISTRATION (GSA)

Office of Acquisition Policy

Final Rule Stage

394. General Services Administration Acquisition Regulation (GSAR); GSAR Case 2012-G501; Electronic Contracting Initiative

Legal Authority: 40 U.S.C. 121(c)

Abstract: The General Services Administration (GSA) issued a proposed rule to amend the General Services Administration Acquisition Regulation (GSAR) to add clause 552.238-81, Modifications (Federal Supply Schedule), and an Alternate I version of the clause that will require electronic submission of modifications under Federal Supply Schedule contracts managed by GSA. The public reporting burdens associated with both the basic and Alternate I clauses are also being updated.

Timetable:

Action | Date | FR Cite
NPRM | 05/28/13 | 78 FR 31879
NPRM Comment Period End | 07/29/13
Final Rule | 06/00/14

Regulatory Flexibility Analysis Required: Yes.

Agency Contact: Dana L Munson, Procurement Analyst, General Services Administration, 1800 F Street NW., Washington, DC 20405,Phone: 202 357-9652,Email: dana.munson@gsa.gov.

RIN: 3090-AJ36

[FR Doc. 2013-29641 Filed 1-6-14; 8:45 am]

BILLING CODE 6820-34-P